DEPARTMENT OF TRANSPORTATION

Federal Aviation Administration

14 CFR Part 97

[Docket No. 31125; Amdt. No. 3739]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 10, 2017. The compliance date for each SIAP, associated Takeoff Minimums, and ODP is specified in the amendatory provisions.

The incorporation by reference of certain publications listed in the regulations is approved by the Director of the Federal Register as of April 10, 2017.

ADDRESSES: Availability of matters incorporated by reference in the amendment is as follows:

For Examination

1. U.S. Department of Transportation, Docket Ops-M30, 1200 New Jersey Avenue SE., West Bldg., Ground Floor, Washington, DC 20590-0001. 2. The FAA Air Traffic Organization Service Area in which the affected airport is located; 3. The office of Aeronautical Navigation Products, 6500 South MacArthur Blvd., Oklahoma City, OK 73169 or, 4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on March 10, 2017.
John S. Duncan,
Director, Flight Standards Service.

Adoption of the Amendment

Accordingly, pursuant to the authority delegated to me, Title 14, Code of Federal Regulations, part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 27 April 2017

Bakersfield, CA, Meadows Field, RNAV (GPS) RWY 12R, Orig

Bakersfield, CA, Meadows Field, RNAV (GPS) RWY 30L, Orig

Los Angeles, CA, Los Angeles Intl, RNAV (RNP) Z RWY 24L, Amdt 2

Ontario, CA, Ontario Intl, RNAV (GPS) Y RWY 26L, Amdt 2

Ontario, CA, Ontario Intl, RNAV (GPS) Y RWY 26R, Amdt 2

Alamosa, CO, San Luis Valley Rgnl/Bergman Field, ILS OR LOC RWY 2, Amdt 2

Alamosa, CO, San Luis Valley Rgnl/Bergman Field, RNAV (GPS) RWY 2, Amdt 1

Pahokee, FL, Palm Beach Co Glades, RNAV (GPS) RWY 17, Orig-A

Pahokee, FL, Palm Beach Co Glades, RNAV (GPS) RWY 35, Orig-A

Pahokee, FL, Palm Beach Co Glades, VOR/DME-A, Orig-A

Stuart, FL, Witham Field, RNAV (GPS) RWY 12, Amdt 1B

West Palm Beach, FL, North Palm Beach County General Aviation, ILS OR LOC RWY 8R, Amdt 1B

West Palm Beach, FL, North Palm Beach County General Aviation, RNAV (GPS) RWY 13, Orig-B

West Palm Beach, FL, North Palm Beach County General Aviation, VOR RWY 8R, Amdt 1C

West Palm Beach, FL, Palm Beach County Park, RNAV (GPS)-A, Orig-A

Dalton, GA, Dalton Muni, ILS OR LOC RWY 14, Amdt 1

Dalton, GA, Dalton Muni, RNAV (GPS) RWY 14, Amdt 1

Dalton, GA, Dalton Muni, RNAV (GPS) RWY 32, Amdt 1

Dalton, GA, Dalton Muni, Takeoff Minimums and Obstacle DP, Amdt 5

Honolulu, HI, Daniel K. Inouye Intl, Takeoff Minimums and Obstacle DP, Amdt 8A

Ottumwa, IA, Ottumwa Rgnl, ILS OR LOC RWY 31, Amdt 5E

Cairo, IL, Cairo Rgnl, NDB RWY 14, Amdt 2B

Cairo, IL, Cairo Rgnl, RNAV (GPS) RWY 32, Orig-B

Chicago/Prospect Heights/Wheeling, IL, Chicago Executive, RNAV (GPS) RWY 16, Amdt 1E

Anderson, IN, Anderson Muni-Darlington Field, ILS OR LOC RWY 30, Amdt 2

Anderson, IN, Anderson Muni-Darlington Field, NDB RWY 30, Amdt 7

Indianapolis, IN, Indianapolis Rgnl, RNAV (GPS) RWY 25, Orig-C

Logansport, IN, Logansport/Cass County, VOR-A, Amdt 7A

Marion, IN, Marion Muni, ILS OR LOC RWY 4, Amdt 7D

Peru, IN, Peru Muni, VOR RWY 1, Amdt 8C

Wabash, IN, Wabash Muni, VOR-A, Amdt 11A

Houma, LA, Houma-Terrebonne, ILS OR LOC RWY 18, Amdt 5

New Iberia, LA, Acadiana Rgnl, ILS OR LOC RWY 35, Amdt 1

New Iberia, LA, Acadiana Rgnl, RNAV (GPS) RWY 17, Amdt 1

New Iberia, LA, Acadiana Rgnl, RNAV (GPS) RWY 35, Amdt 1

New Iberia, LA, Acadiana Rgnl, Takeoff Minimums and Obstacle DP, Amdt 1

New Iberia, LA, Acadiana Rgnl, VOR OR TACAN RWY 17, Amdt 2

New Iberia, LA, Acadiana Rgnl, VOR RWY 35, Amdt 2

Cape Girardeau, MO, Cape Girardeau Rgnl, LOC/DME BC RWY 28, Amdt 8C

Charleston, MO, Mississippi County, NDB RWY 36, Amdt 4B

Gordon, NE, Gordon Muni, NDB RWY 22, Amdt 4B

Gordon, NE, Gordon Muni, RNAV (GPS) RWY 4, Amdt 1B

Gordon, NE, Gordon Muni, RNAV (GPS) RWY 22, Amdt 1A

Burns Flat, OK, Clinton-Sherman, ILS OR LOC RWY 17R, Amdt 8

Burns Flat, OK, Clinton-Sherman, Takeoff Minimums and Obstacle DP, Orig-A

Burns Flat, OK, Clinton-Sherman, VOR RWY 35L, Amdt 12

Clinton, OK, Clinton Rgnl, RNAV (GPS) RWY 17, Amdt 3

Clinton, OK, Clinton Rgnl, RNAV (GPS) RWY 35, Amdt 4

Clinton, OK, Clinton Rgnl, VOR/DME-A, Orig, CANCELED

Elk City, OK, Elk City Rgnl Business, RNAV (GPS) RWY 17, Amdt 2

Elk City, OK, Elk City Rgnl Business, RNAV (GPS) RWY 35, Amdt 2

Weatherford, OK, Thomas P Stafford, RNAV (GPS) RWY 35, Amdt 3

Latrobe, PA, Arnold Palmer Rgnl, ILS OR LOC RWY 23, Amdt 17

Latrobe, PA, Arnold Palmer Rgnl, RNAV (GPS) RWY 5, Amdt 1

Latrobe, PA, Arnold Palmer Rgnl, RNAV (GPS) RWY 23, Amdt 1

Latrobe, PA, Arnold Palmer Rgnl, Takeoff Minimums and Obstacle DP, Amdt 6

Majuro Atoll, RM, Marshall Islands Intl, NDB RWY 7, Amdt 1A

Majuro Atoll, RM, Marshall Islands Intl, NDB RWY 25, Amdt 1A

Majuro Atoll, RM, Marshall Islands Intl, RNAV (GPS) RWY 7, Orig-D

Majuro Atoll, RM, Marshall Islands Intl, RNAV (GPS) RWY 25, Orig-D

Millington, TN, Millington Rgnl Jetport, Takeoff Minimums and Obstacle DP, Orig-A

Canadian, TX, Hemphill County, RNAV (GPS) RWY 4, Amdt 2

Kerrville, TX, Kerrville Muni/Louis Schreiner Fld, NDB RWY 30, Amdt 4, CANCELED

Terrell, TX, Terrell Muni, NDB RWY 17, Amdt 4

Wheeler, TX, Wheeler Muni, RNAV (GPS) RWY 17, Orig-A, CANCELED

Wheeler, TX, Wheeler Muni, RNAV (GPS) RWY 35, Orig-A, CANCELED

Wheeler, TX, Wheeler Muni, RNAV (GPS)-A, Orig

Wheeler, TX, Wheeler Muni, RNAV (GPS)-B, Orig

Wheeler, TX, Wheeler Muni, VOR/DME-A, Amdt 2, CANCELED

[FR Doc. 2017-06771 Filed 4-7-17; 8:45 am]

BILLING CODE 4910-13-P